DEPARTMENT OF DEFENSE

Office of the Secretary

[Docket ID DoD-2022-OS-0124]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 17, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, Office of People Analytics, 4800 Mark Center Drive, Suite 06E22, Alexandria, VA 22350-4000, Ashlea Klahr, 703-819-5356.

SUPPLEMENTARY INFORMATION: At the direction of President Biden, the Secretary of Defense ordered a 90-Day Independent Review Commission (IRC) on Sexual Assault in the Military. The IRC recommended the DoD establish “pulse survey” tool that would enable unit-level commanders to collect real-time climate data from Service members in their units between required administrations of the Defense Organizational Climate Survey (DEOCS), the command climate assessment tool used by the DoD. A subsequent September 2021 memo from the Secretary of Defense directed the Under Secretary of Defense for Personnel and Readiness (USD(P&R)) to develop the survey tool to augment the DEOCS command climate assessment program required under Section 572 of the National Defense Authorization Act (NDAA) for Fiscal Year (FY) 2013. USD(P&R) developed the Defense Organizational Climate Pulse (DOCP) to meet this directive.

A DOCP provides DoD leaders in active duty and Reserve component DoD units and DoD civilian personnel organizations an annual opportunity to a means to assess concerns identified in the DEOCS. Also included in the DOCP population are active duty and Reserve component members of the Coast Guard and foreign national employees working for the DoD. The survey is web-based and is a census of the commander's unit. The survey includes core demographic questions and a pool of survey items that include topics related to (1) unit experiences, (2) ratings of leadership, and (3) personal experiences and/or behaviors.

Title; Associated Form; and OMB Number: Defense Organizational Climate Pulse (DOCP)—Version 1.0; OMB Control Number 0704-DOCP.

Needs and Uses: The DOCP is fielded in response to a September 2021 memo from Secretary of Defense directing the USD(P&R) to develop the survey pulse tool. The information gathered from the DOCP will be used by commanders, prevention workforce personnel, equal opportunity officers (EOAs), survey administrators, and other leaders to assess changes in the unit's command climate, gather additional information related to risk and protective factors measured on the DOECS and/or other outcomes of interest (e.g., sexual assault, sexual harassment, racial/ethnic discrimination, suicide, readiness, retention, retaliation, and various forms of abuse). The DOCP requirements will be further codified in a forthcoming DoD Instruction, which specifies that unit commanders may field only one DOCP annually. Based on the DOCP results, commanders, leaders, and their survey administrators will refine the action plans developed after the administration of a DEOCS to positively impact their organization's leadership climate. The survey results are provided to the commander/leader and their survey administrator. Survey responses could also be used in future analyses.

Affected Public: Individuals.

Annual Burden Hours: 18,539.5.

Number of Respondents: 158,910.

Responses per Respondent: 1.

Annual Responses: 158,910.

Average Burden per Response: 7 minutes.

Frequency: On occasion.

Unit commanders and organizational leaders may choose to administer a DOCP, 90 days after their most recent DEOCS. The DEOCS is a required administration for unit commanders. In contrast, the DOCP is a voluntary data collection unit commanders may request. Based on historical administrative records on the frequency of unit commander requests for a second DEOCS in a 12 month period, we anticipate a small fraction of unit commanders requesting a DOCP. The DCOP will be a confidential data collection.

Dated: November 8, 2022.
Aaron T. Siegel,
Alternate OSD Federal Register Liaison Officer, Department of Defense.

[FR Doc. 2022-24778 Filed 11-14-22; 8:45 am]

BILLING CODE 5001-06-P